DEPARTMENT OF THE INTERIOR

Fish and Wildlife Service

Draft Comprehensive Conservation Plan and Environmental Assessment for Shawangunk Grasslands National Wildlife Refuge

Correction

This document originally appeared in the issue of Monday, December 5, 2005 at FR 72463-72464. In correction document C5-23642 appearing on page 75544 in the issue of Tuesday, December 20, 2005, make the following correction:

On page 75544, in the third column, in the second paragraph, in the fourth and sixth lines, the email address is corrected to read as follows: “northeastplanning@fws.gov”.

[FR Doc. C5-23642 Filed 12-27-05; 8:45 am]

BILLING CODE 1505-01-D